DEPARTMENT OF COMMERCE

International Trade Administration

[A-570-121]

Difluoromethane (R-32) From the People's Republic of China: Antidumping Duty Order

AGENCY: Enforcement and Compliance, International Trade Administration, Department of Commerce.

SUMMARY: Based on affirmative final determinations by the Department of Commerce (Commerce) and the International Trade Commission (ITC), Commerce is issuing the antidumping duty (AD) order on difluoromethane (R-32) from the People's Republic of China (China).

DATES: Applicable March 11, 2021.

FOR FURTHER INFORMATION CONTACT: William Miller or Joshua Tucker, AD/CVD Operations, Office II, Enforcement and Compliance, International Trade Administration, U.S. Department of Commerce, 1401 Constitution Avenue NW, Washington, DC 20230; telephone: (202) 482-3906 or (202) 482-2044, respectively.

SUPPLEMENTARY INFORMATION:

Background

In accordance with section 735(d) of the Tariff Act of 1930, as amended (the Act), on January 19, 2021, Commerce published its affirmative final determination in the less-than-fair-value (LTFV) investigation of R-32 from China.¹

¹ See Difluoromethane (R-32) From the People's Republic of China: Final Affirmative Determination of Sales at Less Than Fair Value, 86 FR 5136 (January 19, 2021).

On March 2, 2021, the ITC notified Commerce of its final affirmative determination that an industry in the United States is materially injured by reason of imports of R-32 from China, within the meaning of section 735(b)(1)(A)(i) of the Act.²

² See ITC's Letter, Final Determination Notification, dated March 2, 2021.

Scope of the Order

The product covered by this order is R-32 from China. For a complete description of the scope of the order, see Appendix I to this notice.

Antidumping Duty Order

On March 2, 2021, in accordance with sections 735(b)(i)(A)(i) and 735(d) of the Act, the ITC notified Commerce of its final determination that an industry in the United States is materially injured by reason of imports of R-32 from China.³ Therefore, in accordance with section 735(c)(2) of the Act, we are issuing this order. Because the ITC determined that imports of R-32 from China are materially injuring a U.S. industry, unliquidated entries of such merchandise from China which are entered, or withdrawn from warehouse, for consumption are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the subject merchandise, for all relevant entries of R-32 from China. Antidumping duties will be assessed on unliquidated entries of R-32 from China entered, or withdrawn from warehouse, for consumption on or after August 27, 2020, the date of publication of the Preliminary Determination.⁴

⁴ See Difluoromethane (R-32) from the People's Republic of China: Preliminary Affirmative Determination of Sales at Less Than Fair Value and Postponement of Final Determination, 85 FR 52950 (August 27, 2020) (Preliminary Determination).

Continuation of Suspension of Liquidation

In accordance with section 736 of the Act, Commerce will instruct CBP to continue to suspend liquidation on all relevant entries of R-32 from China, which are entered, or withdrawn from warehouse, for consumption on or after the date of publication of the ITC's final determination in the Federal Register. These instructions suspending liquidation will remain in effect until further notice.

Commerce will also instruct CBP to require cash deposits for estimated antidumping duties equal to the cash deposit rates for each producer and exporter combination listed below. Accordingly, effective on the date of publication in the Federal Register of the ITC's final determination, CBP will require, at the same time as importers would normally deposit estimated duties on the subject merchandise, a cash deposit equal to the rates listed below:⁵

⁵ See section 736(a)(3) of the Act.

Producer | Exporter | Estimated weighted- average dumping margin (percent)
Taizhou Qingsong Refrigerant New Material Co., Ltd | Taizhou Qingsong Refrigerant New Material Co., Ltd | 161.49
Zibo Feiyuan Chemical Co., Ltd | Zibo Feiyuan Chemical Co., Ltd | 221.06
Zibo Feiyuan Chemical Co., Ltd | T.T. International Co., Ltd | 221.06
Producers Supplying the Non-Individually- Examined Exporters Receiving Separate Rates (see Appendix II) | Non-Individually Examined Exporters Receiving Separate Rates (see Appendix II) | 196.19
China-Wide Entity |  | 221.06

Provisional Measures

Section 733(d) of the Act states that suspension of liquidation pursuant to an affirmative preliminary determination may not remain in effect for more than four months, except that Commerce may extend the four-month period to no more than six months at the request of exporters representing a significant proportion of exports of the subject merchandise. At the request of Taizhou Qingsong Refrigerant New Material Co., Ltd. and Zibo Feiyuan Chemical Co., Ltd., exporters that account for a significant proportion of R-32 from China, we extended the four-month period to six months.⁶ Commerce published its Preliminary Determination on August 27, 2020.

⁶ See Preliminary Determination, 85 FR at 52952.

The extended provisional measures period, beginning on the date of publication of the Preliminary Determination, ended on February 22, 2021. Therefore, in accordance with section 733(d) of the Act and our practice, we will instruct CBP to terminate the suspension of liquidation and to liquidate, without regard to antidumping duties, unliquidated entries of R-32 from China, entered, or withdrawn, from warehouse, for consumption on or after February 23, 2021, the first day provisional measures were no longer in effect, until and through the day preceding the date of publication of the ITC's final determination in the Federal Register. Suspension of liquidation and the collection of cash deposits will resume on the date of publication of the ITC's final determination in the Federal Register.

Notifications to Interested Parties

This notice constitutes the order with respect to R-32 from China pursuant to section 736(a) of the Act. Interested parties can find a list of orders currently in effect at http://enforcement.trade.gov/stats/iastats1.html.

This order is published in accordance with section 736(a) of the Act and 19 CFR 351.211(b).

Dated: March 8, 2021.
Christian Marsh,
Acting Assistant Secretary for Enforcement and Compliance.

Appendix I—

Scope of the Order

The merchandise covered by this order is difluoromethane (R-32), or its chemical equivalent, regardless of form, type or purity level. R-32 has the Chemical Abstracts Service (CAS) registry number of 75-10-5 and the chemical formula CH2 F2. R-32 is also referred to as difluoromethane, HFC-32, FC-32, Freon-32, methylene difluoride, methylene fluoride, carbon fluoride hydride, halocarbon R32, fluorocarbon R32, and UN 3252. Subject merchandise also includes R-32 and unpurified R-32 that are processed in a third country or the United States, including, but not limited to, purifying or any other processing that would not otherwise remove the merchandise from the scope of this order if performed in the country of manufacture of the in-scope R-32. R-32 that has been blended with products other than pentafluoroethane (R-125) is included within this scope if such blends contain 85% or more by volume on an actual percentage basis of R-32. In addition, R-32 that has been blended with any amount of R-125 is included within this scope if such blends contain more than 52% by volume on an actual percentage basis of R-32. Whether R-32 is blended with R-125 or other products, only the R-32 component of the mixture is covered by the scope of this order. The scope also includes R-32 that is commingled with R-32 from sources not subject to this order. Only the subject component of such commingled products is covered by the scope of this order.

Excluded from the current scope is merchandise covered by the scope of the antidumping order on hydrofluorocarbon blends from the People's Republic of China. See Hydrofluorocarbon Blends from the People's Republic of China: Antidumping Duty Order, 81 FR 55436 (August 19, 2016) (the Blends Order).

R-32 is classified under Harmonized Tariff Schedule of the United States (HTSUS) subheading 2903.39.2035. Other merchandise subject to the current scope, including the abovementioned blends that are outside the scope of the Blends Order, may be classified under 2903.39.2045 and 3824.78.0020. The HTSUS subheadings and CAS registry number are provided for convenience and customs purposes. The written description of the scope of the order is dispositive.

Appendix II—

Separate Rate Companies
Exporter: Non-Individually Examined Exporters Receiving Separate Rates | Producer: Producers Supplying the Non-Individually-Examined Exporters Receiving Separate Rates
Icool International (Hong Kong) Limited | Changshu 3F Zhonghao New Chemical Materials Co., Ltd.
Icool International (Hong Kong) Limited | Zhejiang Zhiyang Chemical Co., Ltd.
Icool International (Hong Kong) Limited | Taizhou Huasheng New Refrigeration Material Co., Ltd.
Icool International (Hong Kong) Limited | Zhejiang Lishui Fuhua Chemical Co., Ltd.
Icool International (Hong Kong) Limited | Zibo Feiyuan Chemical Co., Ltd.
Icool International (Hong Kong) Limited | Jiangsu Meilan Chemical Co., Ltd.
Icool International (Hong Kong) Limited | Taizhou Qingsong Refrigerant New Material Co., Ltd.
Icool International (Hong Kong) Limited | Zhejiang Sanmei Chemical Industry Co., Ltd.
Icool International (Hong Kong) Limited | Shandong Huaan New Material Co., Ltd.
Icool International (Hong Kong) Limited | Liaocheng Fuer New Materials Technology Co., Ltd.
Icool International (Hong Kong) Limited | Ruyuan Dongyangguang Fluorine Co., Ltd.
Icool International (Hong Kong) Limited | Shandong Xinlong Science Technology Co., Ltd.
Icool International (Hong Kong) Limited | Linhai Limin Chemicals Co., Ltd.
Icool International (Hong Kong) Limited | Dongyang Weihua Refrigerants Co., Ltd.
Icool International (Hong Kong) Limited | Zhejiang Fulai Refrigerant Co., Ltd.
Icool International (Hong Kong) Limited | Zhejiang Guomao Industrial Co., Ltd.
Icool International (Hong Kong) Limited | Zhejiang Yonghe Refrigerant Co., Ltd.
Icool International (Hong Kong) Limited | Shanghai Aohong Chemical Co., Ltd.
Ninhua Group Co., Ltd. | Changshu 3F Zhonghao New Chemical Materials Co., Ltd.
Ninhua Group Co., Ltd | Zhejiang Zhiyang Chemical Co., Ltd.
Ninhua Group Co., Ltd | Taizhou Huasheng New Refrigeration Material Co., Ltd.
Ninhua Group Co., Ltd | Zhejiang Lishui Fuhua Chemical Co., Ltd.
Ninhua Group Co., Ltd | Zibo Feiyuan Chemical Co., Ltd.
Ninhua Group Co., Ltd | Jiangsu Meilan Chemical Co., Ltd.
Ninhua Group Co., Ltd | Taizhou Qingsong Refrigerant New Material Co., Ltd.
Ninhua Group Co., Ltd | Zhejiang Sanmei Chemical Industry Co., Ltd.
Ninhua Group Co., Ltd | Shandong Huaan New Material Co., Ltd.
Ninhua Group Co., Ltd | Liaocheng Fuer New Materials Technology Co., Ltd.
Ninhua Group Co., Ltd | Ruyuan Dongyangguang Fluorine Co., Ltd.
Ninhua Group Co., Ltd | Shandong Xinlong Science Technology Co., Ltd.
Ninhua Group Co., Ltd | Linhai Limin Chemicals Co., Ltd.
Ninhua Group Co., Ltd | Dongyang Weihua Refrigerants Co., Ltd.
Ninhua Group Co., Ltd | Zhejiang Fulai Refrigerant Co., Ltd.
Ninhua Group Co., Ltd | Zhejiang Guomao Industrial Co., Ltd.
Ninhua Group Co., Ltd | Zhejiang Yonghe Refrigerant Co., Ltd.
Ninhua Group Co., Ltd | Shanghai Aohong Chemical Co., Ltd.
Shandong Huaan New Material Co., Ltd | Shandong Huaan New Material Co., Ltd.
T.T. International Co., Ltd | Sinochem Lantian Fluoro Materials Co., Ltd.
T.T. International Co., Ltd | Zhejiang Sanmei Chemical Industry Co., Ltd.
T.T. International Co., Ltd | Shandong Huaan New Material Co., Ltd.
Zhejiang Sanmei Chemical Ind. Co., Ltd | Jiangsu Sanmei Chemical Ind. Co., Ltd.
Zhejiang Sanmei Chemical Ind. Co., Ltd | Fujian Qingliu Dongying Chemical Co., Ltd.

[FR Doc. 2021-05099 Filed 3-10-21; 8:45 am]

BILLING CODE 3510-DS-P